DEPARTMENT OF THE INTERIOR

Fish and Wildlife Service

50 CFR Part 17

Endangered and Threatened Wildlife and Plants: Notice of Finding on a Petition To Delist the Morelet's Crocodile From the List of Threatened and Endangered Species

AGENCY: Fish and Wildlife Service, Interior.

ACTION: Notice of petition finding.

SUMMARY: The U.S. Fish and Wildlife Service (Service) announces a 90-day finding for a petition to delist the Morelet's crocodile (Crocodylus moreletii) throughout its range from the Endangered Species Act of 1973, as amended. The Service finds that the petitioner has presented substantial scientific and commercial information indicating that the action may be warranted. A status review of the species is initiated. We seek comments on the petition or information on status of the species, particularly in Guatemala and Belize.

DATES: This finding was made on June 21, 2006. Comments and information may be submitted until September 26, 2006.

ADDRESSES: Submit comments, information, and questions to the Chief, Division of Scientific Authority, U.S. Fish and Wildlife Service, 4401 N. Fairfax Drive, Room 750, Arlington, VA 22203, USA; or by fax (703-358-2276) or by e-mail (ScientificAuthority@fws.gov). Comments and supporting information will be available for public inspection, by appointment, from 8 a.m. to 4 p.m. at the above address.

FOR FURTHER INFORMATION CONTACT: Robert R. Gabel, Chief, Division of Scientific Authority at the above address; or by telephone, 703-358-1708; fax, 703-358-2276; or e-mail, ScientificAuthority@fws.gov.

SUPPLEMENTARY INFORMATION:

Background

Section 4(b)(3)(A) of the Endangered Species Act of 1973 (Act), as amended (16 U.S.C. 1531 et seq.), requires the Service to make a finding on whether a petition to list, delist, or reclassify a species has presented substantial scientific or commercial information indicating that the requested action may be warranted. This finding is to be based on all information available to us at the time the finding is made. To the maximum extent practicable, the finding shall be made within 90 days following receipt of the petition (this finding is referred to as the “90-day finding”) and published promptly in the Federal Register. If the finding is that substantial information was presented indicating that the requested action may be warranted, Section 4(b)(3)(A) of the Act requires the Service to commence a status review of the species if one has not already been initiated under the Service's internal candidate-assessment process.

The Service has made a 90-day finding on a petition to remove from the List of Endangered and Threatened Wildlife (50 CFR 17.11) the Morelet's crocodile (Crocodylus moreletii), currently listed as endangered under the Act. The petition was submitted by Mexico's Comisión Nacional para el Conocimiento y Uso de la Biodiversidad (CONABIO; National Commission for the Understanding and Use of Biodiversity), and was received by the Service on May 26, 2005.

The documents provided by the petitioner to substantiate the petition included: the raw data and results of a recent population survey and a population viability analysis for the Morelet's crocodile in Mexico with extrapolations for Belize and Guatemala; a detailed analysis of the species against the five factors to be considered by the Service in determining whether to add, reclassify, or remove a species from the list of endangered and threatened species, as per Section 4(a)(1) of the Act; a reevaluation of the risk category assignable to the Morelet's crocodile under the current criteria of The World Conservation Union (IUCN); a reevaluation of the current status of the Morelet's crocodile under Mexican law; information on the Mexican legal framework as related to the conservation and sustainable use of the Morelet's crocodile; and information on conservation actions in Mexico that support the improved status of the Morelet's crocodile. Most of the information provided by the petitioner emphasizes Mexican field studies and species management, with little direct information on the species in the other range countries, but 85 percent of the species' range is in Mexico. Thus, the petition represents substantial information for a significant portion of the species' range.

The Morelet's crocodile was listed as endangered throughout its entire range under the predecessor of the Act on June 2, 1970 (35 FR 8495). The species is found naturally along the Atlantic coast of Mexico and northern Central America (i.e., Belize and Guatemala), where it inhabits freshwater habitats such as marshes, swamps, ponds, lagoons, and slow-moving rivers (Ross 1998).

Throughout the Morelet's crocodile's range, modification of wetlands for agriculture, ranching, development, aquaculture, and plague control previously contributed to significant declines in the species during the 1950s and 1960s (Ross 1998). To reduce the overall impact of habitat loss on biodiversity, all three range countries of the Morelet's crocodile have established protected areas, many of which are inhabited by the Morelet's crocodile. In Mexico, approximately 20 protected areas, comprising an area of 51,867 square kilometers, are inhabited by the Morelet's crocodile (CONABIO 2005). Furthermore, using field data and computer models, CONABIO has recently estimated that, in Mexico alone, a little over 200,000 square kilometers of suitable habitat remain available for the species (CONABIO 2005). Whether or not all suitable habitat contains Morelet's crocodiles is unknown. However, the species was found to be widespread and abundant based on sampling at 62 localities where the computer model identified suitable habitat and, therefore, is likely to occur in unsampled localities with suitable habitat.

Although habitat destruction and deterioration continue to occur throughout the range of the Morelet's crocodile, available information suggests that the impact of these activities on wild populations of this species may vary according to the type of activity and its location (Alvarez 1998; CONABIO 2005). For example, although agriculture and ranching reduce forest cover, local farmers and ranchers usually set aside bodies of water for use by cattle and other domesticated animals, indirectly protecting some Morelet's crocodile habitat. In some parts of Mexico, establishment of Morelet's crocodiles in these water sources is not only tolerated, but in some instances encouraged, by ranchers themselves who actively transfer crocodiles to these sites because of their belief that bodies of water inhabited by crocodiles do not dry up. Oil companies in Mexico have further modified wetlands by constructing canals to access oil-drilling rigs. Although the creation of these canals results in fragmentation and reduction of coastal wetlands used by crocodiles, they indirectly increase the amount of habitat available to Morelet's crocodiles, which are able to occupy these artificially created aquatic environments.

In addition to habitat destruction, the IUCN Crocodile Specialist Group identified over-exploitation as the second major factor responsible for the decline of the Morelet's crocodile (Ross 1998). Uncontrolled hunting for hides greatly reduced wild populations of Morelet's crocodile during the 1940s and 1950s, which prompted the inclusion of this crocodile species in Appendix I of the Convention on International Trade in Endangered Species of Wild Fauna and Flora (CITES) on July 1, 1975. Listing in CITES Appendix I prohibits international trade (including importation into the United States) in the species for primarily commercial purposes. Limited trade for non-commercial purposes may be allowed if it is not detrimental to the survival of the species. In addition to the international ban on commercial trade by CITES, all three range countries have enacted laws, still in place, protecting the Morelet's crocodile within their territories (Ross 1998; CONABIO 2005).

Whereas a policy of strict protection once appeared to be the best and only way to conserve endangered species, many countries now see that an appropriate means of protecting some species is through farming, ranching, or controlled harvest, and then trade. Such an approach can provide incentives for conservation of species if properly implemented. Although no ranching or farming is known to exist in either Belize or Guatemala (Ross 1998), the Government of Mexico has developed a comprehensive conservation and management program (Proyecto de Conservación, Manejo y Aprovechamiento Sustentable de los Cocodrilos [Project for the Conservation, Management and Sustainable Use of Crocodiles]) for its three crocodilian species (Morelet's crocodile, American crocodile [Crocodilus acutus], and common caiman [Caiman crocodylus fuscus]), which includes sustainable use of the species through captive breeding (Alvarez 1998). Under Mexican law, live specimens of Morelet's crocodile may be removed from the wild only to establish parental stock for captive-breeding operations registered with the Government of Mexico. Of all Morelet's crocodile hatchlings produced in captivity, ten percent of them must be set aside for reintroductions into the wild or as breeding stock for other crocodile farms in the country. Only operations capable of breeding Morelet's crocodiles in captivity to the F2 generation are given authorization to kill their crocodiles for commercial purposes. Thus, registered breeding farms reduce harvest pressure on the wild population and augment the wild population through reintroduction of captive-reared young. Adherence to CITES crocodile-marking requirements minimizes the potential for substitution of illegal skins or other parts, and reduces the trade-control problems caused by the similarity in appearance of skins and products from different species of crocodilians. Existing regulatory mechanisms such as CITES and Mexican domestic legislation controlling the harvest and export of Morelet's crocodile skins, parts, and products are playing a role in the recovery of this species.

Between 1982 and 2005, the global risk status of the Morelet's crocodile has changed considerably. In 1982, it was categorized as “endangered” by the IUCN. By 1996, the species had been reassigned to the “low risk, conservation dependent” category (Ross 1998), a categorization still in place. However, a preliminary reevaluation of the risk status of the Morelet's crocodile conducted by Mexico using the revised IUCN criteria indicates that the species may qualify for categorization as of “least concern” (CONABIO 2005).

To better assess the risk status of the species in the wild, during 2002-2004, CONABIO financed a field survey in 10 Mexican states to determine the relative abundance of the Morelet's crocodile in the wild and gather new information on habitat quality. Based on that study, other available scientific literature, and a workshop of experts, CONABIO has estimated the current global wild Morelet's crocodile population to be around 102,400 animals, with 79,700 in Mexico and, by extrapolation, 13,900 in Guatemala and 8,800 in Belize (CONABIO 2005). Furthermore, a population viability analysis indicates that the probability of the species going extinct over the next 500 years, using a global population of 30,000 (less than ⅓ of the actual population estimate), is 13.8 percent (CONABIO 2005).

Therefore, we find that the petition presents substantial information indicating that the requested action may be warranted. Specifically, the petitioner has presented substantial scientific and commercial information indicating that the Morelet's crocodile is abundant and widely distributed, particularly in Mexico (the largest part of its range), and that the national and international regulatory mechanisms currently in place may have eliminated the danger of extinction within the foreseeable future.

Pursuant to section 4(b)(3)(A), we hereby commence a review of the status of the Morelet's crocodile. We encourage the submission of appropriate data, opinions, and publications regarding the subject petition or the status of the species. In particular, we seek information on the status of the species in Guatemala and Belize.

Our practice is to make comments, including names and home addresses of respondents, available for public review during regular business hours. Individual respondents may request that we withhold their home address from the rulemaking record, which we will honor to the extent allowable by law. In some circumstances, we may also withhold from the rulemaking record a respondent's identity, as allowable by law. If you wish for us to withhold your name and/or address, you must state this prominently at the beginning of your comment. However, we will not consider anonymous comments. We will make all submissions from organizations or businesses, and from individuals identifying themselves as representatives or officials of organizations or businesses, available for public inspection in their entirety.

Section 4(b)(3)(B) of the Act requires that we make a finding within 12 months of receipt of the petition as to whether removal of the Morelet's crocodile from the List of Endangered and Threatened Wildlife is warranted, not warranted, or warranted but precluded by pending proposals.

References Cited

Alvarez, J. 1998. Conservation and management of Crocodylus moreletii in Mexico. Trip Report—July 1998. Unpublished document.

CONABIO (Comisión Nacional para el Conocimiento y Uso de la Biodiversidad). 2005. Proposal for the reclassification of Morelet's crocodile (Crocodylus moreletii) in the Endangered Species Act (ESA) of the United States of America.

Ross, J.P. 1998. Crocodiles: Status Survey and Conservation Action Plan. Second Edition. IUCN/SSC Crocodile Specialist Group. IUCN, Gland, Switzerland and Cambridge, United Kingdom.

Author

The primary author of this proposed rule is Dr. Javier Alvarez, Division of Scientific Authority, U.S. Fish and Wildlife Service, 4401 North Fairfax Drive, Room 750, Arlington, Virginia 22203.

Dated: June 21, 2006.
Kenneth Stansell,
Acting Director, Fish and Wildlife Service.

[FR Doc. E6-10149 Filed 6-27-06; 8:45 am]

BILLING CODE 4310-55-P